DEPARTMENT OF STATE

Bureau of Diplomatic Security, Office of Foreign Missions

[Public Notice: 6932]

Notice of Request for Public Comments; 60-Day Notice of Proposed Information Collection: Forms DS-4138, Request for Escort Screening Courtesies; DS-4139, Photograph and Signature Card; & DS-4140, Application for OFM Web Site Account; Foreign Diplomatic Services Applications, OMB Collection Number 1405-0105

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Request for Escort Screening Courtesies.

• OMB Control Number: 1405-0105.

• Type of Request: Revision of Currently Approved Collection.

• Originating Office: Diplomatic Security/Office of Foreign Missions (DS/OFM).

• Form Numbers: DS-4138.

• Respondents: Foreign government representatives assigned to the United States.

• Estimated Number of Respondents: 350 missions.

• Estimated Number of Responses: 3,000 responses .

• Average Hours per Response: 10 minutes.

• Total Estimated Burden: 500 hours divided among the missions.

• Frequency: On occasion.

• Obligation to Respond: Required to obtain or retain a benefit.

• Title of Information Collection: Photograph and Signature Card.

• OMB Control Number: 1405-0105.

• Type of Request: Revision of Currently Approved Collection.

• Originating Office: Diplomatic Security/Office of Foreign Missions (DS/OFM).

• Form Number: DS-4139.

• Respondents: Foreign government representatives assigned to the United States.

• Estimated Number of Respondents: 350 missions.

• Estimated Number of Responses: 18,000 forms per year.

• Average Hours per Response: 10 minutes.

• Total Estimated Burden: 3,000 hours divided among the missions.

• Frequency: On occasion.

• Obligation to Respond: Required to obtain or retain a benefit.

• Title of Information Collection: Application for OFM Web site Account.

• OMB Control Number: 1405-0105.

• Type of Request: Revision of Currently Approved Collection.

• Originating Office: Diplomatic Security/Office of Foreign Missions (DS/OFM).

• Form Numbers: DS-4140.

• Respondents: Foreign government representatives assigned to the United States.

• Estimated Number of Respondents: 350 missions.

• Estimated Number of Responses: 456 responses .

• Average Hours per Response: 10 minutes.

• Total Estimated Burden: 76 hours divided among the missions.

• Frequency: On occasion..

• Obligation to Respond: Required to obtain or retain a benefit.

DATES: The Department will accept comments from the public up to 60 days from date of publication in the Federal Register.

ADDRESSES: You may submit comments by either of the following methods:

• E-mail: OFMInfo@state.gov.

• Mail: U.S. Department of State, Diplomatic Security, Office of Foreign Missions, 2201 C Street, NW., Room 2238, Washington, DC 20520.

You must include the DS form number, information collection title, and OMB control number in any correspondence.

FOR FURTHER INFORMATION CONTACT: Direct requests for additional information regarding the collection listed in this notice, including requests for copies of the proposed information collection and supporting documents, to Attn: Jacqueline Robinson, Diplomatic Security, Office of Foreign Missions, 2201 C Street, NW., Room 2238, Washington, DC 20520 who may be reached on (202) 647-3416 or OFMInfo@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The Foreign Diplomatic Service Applications are all associated with OMB Collection number 1405-0105. Form DS-4138 (Request for Escort Screening Courtesies) is the means by which the U.S. Department of State (DOS) will adjudicate requests for assignment of a DOS representative to escort eligible senior officials of foreign governments through the airport security screening process. The request will be used to review for entitlement to the courtesy, the specific airport to be advised, and the assignment of a DOS escort. Form DS-4139 (Photograph and Signature Card) is the means by which the Department obtains a photograph and/or signature for use in the productions of an identification card, a sales tax exemption card, or DOS driver license when applications are submitted electronically (thru e-Gov) for foreign mission personnel and their dependents. Also, form DS-4140 (Application for OFM Web site Account) is the means by which the Department provides accredited foreign mission administrative staff authorized access to the Office of Foreign Missions' electronic data submission (e-Gov) system. OFM's e-Gov system is accessed to submit automated service requests to the Office of Foreign Missions and the Office of Protocol of the U.S. State Department to obtain “benefits” designated under the Foreign Missions Act, 22 U.S.C. 4301 et seq., and must be obtained through the U.S. Department of State. The applications provide the Department with the necessary information to administer its programs effectively and efficiently.

Methodology: These applications/information collections are submitted by all foreign missions to the Office of Foreign Missions via the following methods: mail, personal delivery, and/or electronically.

Dated: February 3, 2010.
Steve Maloney,
Managing Director Bureau of Diplomatic Security, Office of Foreign Missions, U.S. Department of State.

[FR Doc. 2010-6908 Filed 3-26-10; 8:45 am]

BILLING CODE 4710-43-P